FEDERAL RESERVE SYSTEM

Agency Information Collection Activities: Announcement of Board Approval Under Delegated Authority and Submission to OMB

SUMMARY

Background

Notice is hereby given of the final approval of proposed information collection(s) by the Board of Governors of the Federal Reserve System (Board) under OMB delegated authority, as per 5 CFR 1320.16 (OMB Regulations on Controlling Paperwork Burdens on the Public). Board-approved collections of information are incorporated into the official OMB inventory of currently approved collections of information. Copies of the OMB 83-Is and supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT: Federal Reserve Board Clearance Officer—Mary M. West—Division of Research and Statistics, Board of Governors of the Federal Reserve System, Washington, DC 20551 (202-452-3829); OMB Desk Officer—Alexander T. Hunt—Office of Information and Regulatory Affairs, Office of Management and Budget, New Executive Office Building, Room 3208, Washington, DC 20503 (202-395-7860).

Final approval under OMB delegated authority of the extension for three years, without revision, of the following report

1. Report title: Money Market Mutual Fund Assets Report.

Agency form number: FR 2051 a and b.

OMB Control number: 7100-0012.

Frequency: weekly and monthly.

Reporters: money market mutual funds.

Annual reporting hours: 6,360 hours.

Estimated average hours per response: 3 minutes (FR 2051a), 12 minutes (FR 2051b).

Number of respondents: 1,800 (FR 2051a), 700 (FR 2051b).

Small businesses are affected.

General description of report: This information collection is voluntary (12 U.S.C. 353 et. seq.) and is given confidential treatment (5 U.S.C. 552(b)(4)).

Abstract: The weekly FR 2051a and the monthly FR 2051b reports cover total value of shares outstanding and investments of approximately 1,800 money market mutual funds. The data are used at the Board for constructing the monetary aggregates and for the analysis of current money market conditions and developments in the financial sector.

Board of Governors of the Federal Reserve System, February 14, 2001.
Jennifer J. Johnson,
Secretary of the Board.

[FR Doc. 01-4108 Filed 2-16-01; 8:45 am]

BILLING CODE 6210-01-P